DEPARTMENT OF EDUCATION

RIN 1810-ZA09

Notice of Proposed Priority and Clarification of Eligible Local Activities

AGENCY: Office of Elementary and Secondary Education, Department of Education.

SUMMARY: The Secretary proposes to add a competitive preference priority to the Improving Literacy Through School Libraries Program to reflect the importance of mastering reading skills in grades K-3. In this regard, the Secretary also proposes to clarify the allowable local professional development activities under this program, so that school library media specialists can address not only the reading needs of preschool children but also those of children in grades K-3. The Secretary may use this proposed priority and clarification of professional development activities for competitions in FY 2004 and in later years.

DATES: We must receive your comments on or before February 12, 2004.

ADDRESSES: Address all comments about this notice to Margaret McNeely, U.S. Department of Education, 400 Maryland Avenue, SW., room 5C130, Washington, DC 20202-6200, Fax (202) 260-8969. If you prefer to send your comments through the Internet, use the following address: LSL@ed.gov.

You must include the term COMMENTS in the subject line of your electronic message.

FOR FURTHER INFORMATION CONTACT: Margaret McNeely. Telephone: (202) 260-1335 or via the Internet at LSL@ed.gov.

If you use a telecommunications device for the deaf (TDD), you may call the Federal Information Relay Service (FIRS) at 1-800-877-8339.

Individuals with disabilities may obtain this document in an alternative format (e.g., Braille, large print, audiotape or computer diskette) on request to the contact person listed under FOR FURTHER INFORMATION CONTACT.

SUPPLEMENTARY INFORMATION:

Invitation to Comment

We invite you to submit written comments regarding this proposed priority and clarification of eligible activities.

We invite you to assist us in complying with the specific requirements of Executive Order 12866 and its overall requirement of reducing regulatory burden that might result from this proposed priority and clarification of eligible activities. Please let us know of any further opportunities we should take to reduce potential costs or increase potential benefits while preserving the effective and efficient administration of the program.

During and after the public comment period, you may inspect all public comments about these proposed actions in Room 5C130, 400 Maryland Avenue, SW., Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this proposed priority and expansion of eligible activities. If you want to schedule an appointment for this type of aid, please contact the person listed under FOR FURTHER INFORMATION CONTACT.

Background

The Improving Literacy Through School Libraries Program (LSL), authorized by Title I, Part B, Subpart 4, section 1251 of the Elementary and Secondary Education Act of 1965, (ESEA), as amended by the No Child Left Behind Act of 2001, is a discretionary grant program. Through LSL, the Department provides grants to eligible local educational agencies to improve student literacy skills and academic achievement by providing students with increased access to up-to-date school library materials; a well-equipped, technologically advanced school library media center; and well-trained, professionally certified school library media specialists.

Priority

Proposed Competitive Preference Priority for K-3 Projects

This proposed competitive preference priority would support projects that propose primarily to serve grades K-3. The Department would add five points to an applicant's score if its application meets the priority. This proposed priority is based on the design of a proposed project rather than the enrollment of the school(s) to be served. Therefore, applicants with either K-6, K-8, or K-12 enrollments would be eligible to receive the competitive preference priority if their proposed project primarily serves grades K-3. For purposes of this priority, the term “primarily” means that more than 50 percent of the applicant's proposed budget will be used for grades K-3. The Secretary believes that targeting students in grades K-3 will maximize the impact of LSL on improving student reading achievement.

Proposed Clarification of Eligible Local Activities

The Secretary proposes to allow grantees to conduct professional development activities for school library media specialists that further the purposes of the program, not only as related to preschool education, but also related to education benefiting children in grades K-3. This is consistent with our interpretation of the statute and legislative history. The Secretary believes that allowing professional development for school library media specialists benefiting children from preschool through grade 3 can help link projects under this program with efforts such as those funded under the Early Reading First program authorized by section 1221 et seq. of ESEA that benefit teachers of pre-school children, and under the Reading First program authorized by section 1201 et seq. of ESEA that benefit teachers of K-3 children. Professional development for school library media specialists that serve children from preschool through grade 3 will assist these specialists and help them better meet the needs of students and fellow educators.

We will announce the final priority and clarification of eligible local activities in the Federal Register. We will determine the final priority and eligible activities after considering written responses to this notice and other information available to the Department. This notice does not preclude us from proposing or funding additional priorities, subject to meeting applicable rulemaking requirements.

Note: This notice does not solicit applications. In any year in which we choose to use this proposed priority and expanded activities, we invite applications through a notice in the Federal Register.

Executive Order 12866

This notice of proposed priority and clarification of eligible local activities for professional development has been reviewed in accordance with Executive Order 12866. Under the terms of the order, we have assessed the potential costs and benefits of this regulatory action.

The potential costs associated with the notice of proposed priority and the clarification of eligible local activities are those resulting from statutory requirements and those we have determined as necessary for administering this program effectively and efficiently.

In assessing the potential costs and benefits—both quantitative and qualitative—of this notice of proposed priority and clarification of eligible local activities, we have determined that the benefits of the proposed priority and clarification of eligible local activities justify the costs.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Applicable Program Regulations: 34 CFR parts 75, 77, 79, 80, 81, 82, 85, 97, 98 and 99.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

You may also view this document in text at the Applicant Information link of the following site: http://www.ed.gov/programs/lsl.

Note: The official version of this document is the document published in the Federal Register. Free Internet access to the official edition of the Federal Register and the Code of Federal Regulations is available on GPO Access at: http://www.gpoaccess.gov/nara/index.html.

(Catalog of Federal Domestic Assistance Number 84.364A Improving Literacy Through School Libraries Program)

Program Authority: 20 U.S.C. 6383.

Dated: January 7, 2004.
Ronald J. Tomalis,
Acting Assistant Secretary for Elementary and Secondary Education.

[FR Doc. 04-706 Filed 1-12-04; 8:45 am]

BILLING CODE 4000-01-P